DEPARTMENT OF ENERGY

Federal Energy Regulatory Commission

Combined Notice of Filings #3

Take notice that the Commission received the following electric rate filings:

Docket Numbers: ER10-2799-013; ER10-2801-013; ER10-2385-007; ER11-3727-014; ER10-2262-005; ER12-2413-012; ER11-2062-018; ER10-2346-008; ER10-2812-012; ER10-1291-019; ER10-2843-011; ER11-2508-017; ER11-2863-010; ER11-4307-018; ER10-2347-007; ER10-2348-006; ER12-1711-014; ER10-2350-007; ER10-2846-013; ER12-261-017; ER10-3223-007; ER10-2351-007; ER10-2875-013; ER10-2368-006; ER10-2352-007; ER10-2264-006; ER10-1581-016; ER10-2353-008; ER10-2876-014; ER10-2878-013; ER10-2354-008; ER10-2355-008; ER10-2879-013; ER10-2384-007; ER10-2383-007; ER10-2880-013; ER11-2107-009; ER11-2108-009; ER10-2888-018; ER13-1745-008; ER13-1803-010; ER13-1788-008; ER16-10-001; ER13-1789-008; ER13-1790-010; ER10-2896-013.

Applicants: Devon Power LLC, Dunkirk Power LLC, Elkhorn Ridge Wind, LLC, El Segundo Energy Center LLC, El Segundo Power, LLC, Energy Alternatives Wholesale, LLC, Energy Plus Holdings LLC, Forward WindPower LLC, GenConn Devon LLC, GenConn Energy LLC, GenConn Middletown LLC, GenOn Energy Management, LLC, GenOn Mid- Atlantic, LLC, Green Mountain Energy Company, Groen Wind, LLC, High Lonesome Mesa, LLC, High Plains Ranch II, LLC, Hillcrest Wind, LLC, Huntley Power LLC, Independence Energy Group LLC, Indian River Power LLC, Jeffers Wind 20, LLC, Keystone Power LLC, Laredo Ridge Wind, LLC, Larswind, LLC, Long Beach Generation LLC, Long Beach Peakers LLC, Lookout WindPower, LLC, Louisiana Generating LLC, Middletown Power LLC, Midway-Sunset Cogeneration Company, Midwest Generation, LLC, Montville Power LLC, Mountain Wind Power, LLC, Mountain Wind Power II LLC, NEO Freehold- Gen LLC, North Community Turbines LLC, North Wind Turbines LLC, Norwalk Power LLC, NRG Bowline LLC, NRG California South LP, NRG Canal LLC, NRG Chalk Point CT LLC, NRG Chalk Point LLC, NRG Delta LLC, NRG Energy Center Dover LLC.

Description: Notice of Change in Status of NRG MBR Sellers [Part 2 of 3].

Filed Date: 12/30/15.

Accession Number: 20151230-5308.

Comments Due: 5 p.m. ET 1/20/16.

Docket Numbers: ER16-669-000.

Applicants: GenConn Energy LLC.

Description: Section 205(d) Rate Filing: Revised Market-Based Rate Tariff to be effective 12/31/2015.

Filed Date: 12/30/15.

Accession Number: 20151230-5313.

Comments Due: 5 p.m. ET 1/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2015.
Nathaniel J. Davis, Sr.,
Deputy Secretary.

[FR Doc. 2015-33225 Filed 1-5-16; 8:45 am]

BILLING CODE 6717-01-P